INTERNATIONAL TRADE COMMISSION

[Investigation No. 131-041]

APEC List of Environmental Goods: Advice on the Probable Economic Effect of Providing Duty Reductions for Imports

AGENCY: United States International Trade Commission.

ACTION: Institution of investigation and scheduling of hearing.

SUMMARY: Following receipt on August 5, 2015, of a request from the U.S. Trade Representative (USTR) under section 131 of the Trade Act of 1974 (19 U.S.C. 2151), the U.S. International Trade Commission (Commission) instituted investigation no. 131-041, APEC List of Environmental Goods: Advice on the Probable Economic Effect of Providing Duty Reductions for Imports.

DATES:

September 11, 2015: Deadline for filing requests to appear at the public hearing.

September 15, 2015: Deadline for filing prehearing briefs and statements.

September 25, 2015: Public hearing.

October 2, 2015: Deadline for filing posthearing briefs and statements.

October 2, 2015: Deadline for filing all other written submissions.

November 4, 2015: Transmittal of Commission report to the USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Project leader Renee Berry (202-205-3498 or renee.berry@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested by the USTR, the Commission will provide a report containing its advice as to the probable economic effect of modifying tariffs for six products specified in the request. The report will consider the effect of such modifications on U.S. industries producing like or directly competitive articles, and on consumers. The products are included in a List of Environmental Goods endorsed by leaders of the Asia-Pacific Economic Cooperation forum in 2012. Leaders agreed to reduce applied duties on such products to 5 percent or less by the end of 2015. Broadly, the affected imports covered by the list are steam turbine parts and certain types of wood flooring.

The USTR stated that portions of the Commission's report will be classified as national security information and that the USTR considers the report to be an inter-agency memorandum that will contain pre-decisional advice and be subject to the deliberative process privilege.

Public Hearing: The Commission will hold a public hearing in connection with this investigation at the U.S. International Trade Commission Building, 500 E Street SW., Washington, DC, beginning at 9:30 a.m. on Friday, September 25, 2015. Requests to appear at the public hearing should be filed with the Secretary not later than 5:15 p.m., September 11, 2015, in accordance with the requirements in the “Written Submissions” section below. All prehearing briefs and statements should be filed with the Secretary not later than 5:15 p.m., September 15, 2015; and all posthearing briefs and statements responding to matters raised at the hearing should be filed with the Secretary not later than 5:15 p.m., October 2, 2015. All hearing-related briefs and statements should be filed in accordance with the requirements for filing written submissions set out below.

Written Submissions: In lieu of, or in addition to, participating in the hearing, interested parties are invited to file written submissions concerning this investigation. All written submissions should be addressed to the Secretary, and all such submissions should be received not later than 5:15 p.m., October 2, 2015. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information (CBI) must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties. The Commission may include some or all of the confidential business information submitted in the course of this investigation in the report it sends to the USTR. The Commission will not otherwise publish any confidential business information in a manner that would reveal the operations of the firm supplying the information.

Summaries of Written Submissions: The Commission intends to include summaries of the positions of interested persons in an appendix to its report. Persons wishing to have a summary of their position included in the appendix should include a summary with their written submission. The summary may not exceed 500 words, should be in MSWord format or a format that can be easily converted to MSWord, and should not include any confidential business information. The summary will be published as provided if it meets these requirements and is germane to the subject matter of the investigation. In the appendix the Commission will identify the name of the organization furnishing the summary, and will include a link to the Commission's Electronic Document Information System (EDIS) where the full written submission can be found.

By order of the Commission.
Issued: August 21, 2015.
Lisa R. Barton,
Secretary to the Commission.

[FR Doc. 2015-21157 Filed 8-26-15; 8:45 am]

BILLING CODE 7020-02-P